NATIONAL TRANSPORTATION SAFETY BOARD

Sunshine Act Meeting Agenda

Time and Date: 9:30 a.m., Tuesday, May 1, 2007.

Place: NTSB Conference Center, 429 L'Enfant Plaza, SW., Washington, DC 20594.

Status: The two items are open to the public.

Matters to be Considered:

7850A Aviation Accident Brief—Crash during Turn Maneuver, Cirrus SR-20, N929CD, Manhattan, New York, October 11, 2006.

7773A Pipeline Accident Brief—Natural Gas Service Line Break and Subsequent Explosion and Fire, Bergenfield, New Jersey, December 13, 2005.

News Media Contact: Telephone: (202) 314-6100.

Individuals requesting specific accommodations should contact Chris Bisett at (202) 314-6305 by Friday, April 27, 2007.

The public may view the meeting via a live or archived Web cast by accessing a link under “News & Events” on the NTSB home page at http://www.ntsb.gov.

For More Information Contact: Vicky D'Onofrio, (202) 314-6410.

Vicky D'Onofrio,
Federal Register Liaison Office.

[FR Doc. 07-2050 Filed 4-20-07; 2:13 pm]

BILLING CODE 7533-01-M